DEPARTMENT OF COMMERCE

International Trade Administration

[C-570-132]

Twist Ties From the People's Republic of China: Postponement of Preliminary Determination in the Countervailing Duty Investigation

AGENCY: Enforcement and Compliance, International Trade Administration, Department of Commerce.

DATES: Applicable September 1, 2020.

FOR FURTHER INFORMATION CONTACT: Ajay Menon or Adam Simons, AD/CVD Operations, Office II, Enforcement and Compliance, International Trade Administration, U.S. Department of Commerce, 1401 Constitution Avenue NW, Washington, DC 20230; telephone: (202) 482-1993 or (202) 482-6172, respectively.

SUPPLEMENTARY INFORMATION:

Background

On July 16, 2020, the Department of Commerce (Commerce) initiated a countervailing duty (CVD) investigation of imports of twist ties from the People's Republic of China.¹ Currently, the preliminary determination is due no later than September 21, 2020.

¹ See Twist Ties from the People's Republic of China: Initiation of Countervailing Duty Investigation, 85 FR 45188 (July 27, 2020).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) The petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.³

² The petitioner is Bedford Industries, Inc.

³ See 19 CFR 351.205(e).

On August 24, 2020, the petitioner submitted a timely request that Commerce postpone the preliminary CVD determination by 65 days.⁴ The petitioner requested postponement of the preliminary determination because it stated that additional time is necessary for Commerce to conduct its investigation and permit interested parties sufficient time to develop the record in this investigation.⁵

⁴ See Petitioner's Letter, “Twist Ties from the People's Republic of China: Supplemental Request for Extension of Preliminary Determination By 130 Days,” dated August 24, 2020; see also Petitioner's Letter, “Twist Ties from the People's Republic of China: Request for Extension of Preliminary Determination,” dated August 19, 2020.

⁵ Id.

In accordance with 19 CFR 351.205(e), the petitioner has stated the reasons for requesting a postponement of the preliminary determination and Commerce finds no compelling reason to deny the request. Therefore, in accordance with section 703(c)(1)(A) of the Act, Commerce is postponing the deadline for the preliminary determination to November 23, 2020. Pursuant to section 705(a)(1) of the Act and 19 CFR 351.210(b)(1), the deadline for the final determination of this investigation will continue to be 75 days after the date of the preliminary determination.

This notice is issued and published pursuant to section 703(c)(2) of the Act and 19 CFR 351.205(f)(1).

Dated: August 25, 2020.
Jeffrey I. Kessler,
Assistant Secretary for Enforcement and Compliance.

[FR Doc. 2020-19178 Filed 8-31-20; 8:45 am]

BILLING CODE 3510-DS-P